ENVIRONMENTAL PROTECTION AGENCY

[FRL-9902-05-OP]

Notice of Availability for Public Review and Comment: Draft EPA Climate Change Adaptation Implementation Plans

AGENCY: Environmental Protection Agency (EPA).

ACTION: Notice.

SUMMARY: Scientific evidence demonstrates that the climate is changing at an increasingly rapid rate, outside the range to which society has adapted in the past. Climate change can pose significant challenges to the EPA's ability to fulfill its mission. The U.S. Environmental Protection Agency is committed to identifying and responding to the challenges that a changing climate poses to human health and the environment. It is essential therefore, that the EPA adapt to climate change in order to continue fulfilling its statutory, regulatory and programmatic requirements, chief among these protection of human health and the environment. Adaptation will involve anticipating and planning for changes in climate and incorporating considerations of climate change into many of the Agency's programs, policies, rules and operations to ensure they are effective under changing climatic conditions. Adaptation also necessitates close coordination between EPA and its many partners and stakeholders.

In February 2013, EPA published its draft Agency Climate Change Adaptation Plan (draft Plan) in response to the President's October 2009 Executive Order (E.O. 13514—“Federal Leadership in Environmental, Energy, and Economic Performance”) and the March 2011 “Implementing Instructions to all Federal Department and Agencies.” The Plan is being finalized based upon comments received during a 60-day public review and comment period earlier in 2013. EPA's Program and Regional Offices have produced draft Climate Change Adaptation Implementation Plans (“Implementation Plans”) that provide more detail on how they will carry out the work called for in the Agency-wide Plan.

Today, EPA announces the availability of public review drafts of its draft Implementation Plans; one for each of its ten Regions and seven National Programs. The draft Implementation Plans will be available for a 60-day public review and comment period.

The public review drafts of EPA's draft Implementation Plans have been posted to a public docket and they are available on the Agency Web site at this URL address: http://epa.gov/climatechange/impacts-adaptation/fed-programs/EPA-impl-plans.html. The Docket for public comment can be found on the Federal Government Regulations Web site (http://www.regulations.gov/# !home). It is Docket Number EPA-HQ-OA-2013-0568.

DATES: The public should respond to the EPA with comment via the public docket no later than January 3, 2014. Only comments received by the deadline will be considered by the Agency in finalizing its plan.

ADDRESSES: If you have questions about responding to this notice, please contact Gerald Filbin by phone (202-566-2182), or by mail (1200 Pennsylvania Ave. NW., Washington, DC 20460).

SUPPLEMENTARY INFORMATION: EPA is working to fulfill its mission to protect human health and the environment. As EPA articulated in its draft Agency Climate Change Adaptation Plan, many of the goals EPA is working to attain (e.g., clean air, safe drinking water) are sensitive to changes in weather and climate. Until now, EPA has been able to assume that climate is relatively stable and future climate would mirror past climate. However, with climate changing at an increasingly rapid rate and outside the range to which society has adapted in the past, climate change is posing new challenges to EPA's ability to fulfill its mission. The Agency's draft Implementation Plans provide a road map for the Agency to address future changes in climate and to incorporate considerations of climate change into its mission-driven activities.

EPA considers public input to be essential for the development of these draft Implementation Plans. This input will also help the Agency strengthen its partnerships with states, tribes, local communities, and non-governmental organizations, many of which have already begun to develop and implement adaptation measures.

Dated: October 30, 2013.
Shannon Kenny,
Acting Associate Administrator, Office of Policy.

[FR Doc. 2013-26354 Filed 11-1-13; 8:45 am]

BILLING CODE 6560-50-P